DEPARTMENT OF TRANSPORTATION

Pipeline and Hazardous Materials Safety Administration

[Docket No. PHMSA-2007-0039]

Pipeline Safety: Request for Special Permit

AGENCY: Pipeline and Hazardous Materials Safety Administration (PHMSA); DOT.

ACTION: Notice.

SUMMARY: Pursuant to the Federal pipeline safety laws, and PHMSA's special permit procedures, PHMSA is publishing this notice of special permit request we have received from a pipeline operator seeking relief from compliance with certain requirements in the Federal pipeline safety regulations. This notice seeks public comments on this request, including comments on any safety or environmental impacts. At the conclusion of the 30-day comment period, PHMSA will evaluate the request and determine whether to grant or deny a special permit.

DATES: Submit any comments regarding this special permit request by October 22, 2012.

ADDRESSES: Comments should reference the docket number for the specific special permit request and may be submitted in the following ways:

• E-Gov Web Site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE., Washington, DC 20590.

• Hand Delivery: Docket Management System: U.S. Department of Transportation, Docket Operations, M-30, West Building Ground Floor, Room W12-140, 1200 New Jersey Avenue SE., Washington, DC 20590 between 9 a.m. and 5 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: Comments are posted without changes or edits to http://www.Regulations.gov, including any personal information provided. There is a privacy statement published on http://www.Regulations.gov.

FOR FURTHER INFORMATION CONTACT: General: Kay McIver by telephone at 202-366-0113, or email at kay.mciver@dot.gov.

Technical: Patrick Landon by telephone at 202-366-3814, or email at Patrick.Landon@dot.gov.

SUPPLEMENTARY INFORMATION: PHMSA has received a request for special permit from a pipeline operator seeking relief from compliance with certain pipeline safety regulations. The request includes a technical analysis provided by the operator. The request has been filed at www.Regulations.gov and assigned a separate docket number. We invite interested persons to participate by reviewing this special permit request at http://www.Regulations.gov, and by submitting written comments, data or other views. Please include comments on potential environmental impacts that may result if this special permit is granted.

Before acting on this special permit request, PHMSA will evaluate all comments received on or before the comments closing date. Comments will be evaluated after this date if it is possible to do so without incurring additional expense or delay. PHMSA will consider each relevant comment we receive in making our decision to grant or deny a request.

PHMSA has received the following special permit requests:

Docket No. | Requester | Regulation(s) | Nature of special permit
PHMSA-2007-0039 | Boardwalk—Gulf South Pipeline Company, LP (“Gulf South”) | 49 CFR 192.611 | To authorize Gulf South Pipeline Company, LP (Gulf South) a 135-foot extension of an existing Special Permit Segment of the TPL 880 pipeline located in Mobile County, Alabama. The existing Special Permit Segment is defined in the original Special Permit (PHMSA-2007-0039, granted on February 27, 2009) using the Gulf South TPL-880 pipeline survey station references as follows:
|  |  | Station Number 699+77 to Station Number 700+23 (46 feet).
|  |  | The contiguous segment that Gulf South is requesting to add to the Special Permit segment is located at Station 700+23 to Station 701+58. With the addition of this segment, the extended Special Permit Segment would be defined as follows:
|  |  | Station Number 699+77 to Station Number 701+58 (181 feet).
|  |  | The Special Permit Inspection Area, as defined by the existing Special Permit extends from Station 0+00, the start of the TPL 880 Line, to Station 1201+68 at the Airport Compressor Station. The Inspection Area is approximately 23 miles long and is entirely in Mobile County, Alabama.
|  |  | TPL-880 is a 24-mile steel pipeline lateral transporting natural gas from a point onshore of the Gulf of Mexico to other pipelines located in Alabama. The 30-inch diameter pipeline was installed in 1992. The 135-foot extension is located in a high consequence area (HCA), calculated by Method 2, and caused by 20+ dwellings adjacent to the pipeline.

Authority: 49 U.S.C. 60118(c)(1) and 49 CFR 1.53.

Issued in Washington, DC, on September 18, 2012.
Jeffrey D. Wiese,
Associate Administrator for Pipeline Safety.

[FR Doc. 2012-23318 Filed 9-20-12; 8:45 am]

BILLING CODE 4910-60-P